DEPARTMENT OF HEALTH AND HUMAN SERVICES

Administration for Children and Families

President's Committee for People With Intellectual Disabilities (PCPID); Notice of Meeting

AGENCY: President's Committee for People with Intellectual Disabilities (PCPID), Administration for Children and Families, HHS.

ACTION: Notice of meeting.

DATES: Monday, September 26, 2011, from 8:30 a.m. to 5 p.m. EST; and Tuesday, September 27, 2011, from 9 a.m. to 5 p.m. EST. The meeting will be open to the public.

ADDRESSES: The meeting will be held in Conference Room 505-A of the Hubert H. Humphrey Building, U.S. Department of Health and Human Services, 200 Independence Avenue, SW., Washington, DC 20201. Individuals who would like to participate via conference call may do so by dialing 800-857-4846, pass code: 14201. Individuals who will need accommodations for a disability in order to attend the meeting (e.g., sign language interpreting services, assistive listening devices, materials in alternative format such as large print or Braille) should notify Genevieve Swift, PCPID Executive Administrative Assistant, via e-mail at Edith.Swift@acf.hhs.gov, or via telephone at 202-619-0634, no later than Monday, September 19, 2011. PCPID will attempt to meet requests for accommodations made after that date, but cannot guarantee ability to grant requests received after this deadline. All meeting sites are barrier free.

Agenda: Committee members will discuss preparation of the PCPID 2011 Report to the President, including its content and format, and related data collection and analysis required to complete the writing of the Report.

Additional Information: For further information, please contact Laverdia Taylor Roach, Senior Advisor, President's Committee for People with Intellectual Disabilities, The Aerospace Center, Second Floor West, 370 L'Enfant Promenade, SW., Washington, DC 20447. Telephone: 202-619-0634. Fax: 202-205-9519. E-mail: LRoach@acf.hhs.gov.

SUPPLEMENTARY INFORMATION: PCPID acts in an advisory capacity to the President and the Secretary of Health and Human Services, through the Administration on Developmental Disabilities, on a broad range of topics relating to programs, services and supports for persons with intellectual disabilities. The PCPID Executive Order stipulates that the Committee shall: (1) Provide such advice concerning intellectual disabilities as the President or the Secretary of Health and Human Services may request; and (2) provide advice to the President concerning the following for people with intellectual disabilities: (A) Expansion of educational opportunities; (B) promotion of homeownership; (C) assurance of workplace integration; (D) improvement of transportation options; (E) expansion of full access to community living; and (F) increasing access to assistive and universally designed technologies.

Dated: August 12, 2011.
Jamie Kendall,
Deputy Commissioner, Administration on Developmental Disabilities.

[FR Doc. 2011-21240 Filed 8-18-11; 8:45 am]

BILLING CODE 4184-01-P